DEPARTMENT OF TRANSPORTATION

Federal Aviation Administration

14 CFR Part 71

[Docket No. FAA-2022-0940; Airspace Docket No. 21-ASO-26]

RIN 2120-AA66

Amendment and Removal of VOR Federal Airways in the Eastern United States

AGENCY: Federal Aviation Administration (FAA), DOT.

ACTION: Final rule.

SUMMARY: This action modifies five VHF Omnidirectional Range (VOR) Federal airways, and removes one airway. This action supports the FAA's VOR Minimum Operational Network (MON) program.

DATES: Effective date 0901 UTC, February 23, 2023. The Director of the Federal Register approves this incorporation by reference action under 1 CFR part 51, subject to the annual revision of FAA Order 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

History

The FAA published a notice of proposed rulemaking for Docket No. FAA-2022-0940 in the Federal Register (87 FR 50019; August 15, 2022). Interested parties were invited to participate in this rulemaking effort by submitting written comments on the proposal. No comments were received.

Domestic VOR Federal airways are published in paragraph 6010(a) of FAA Order JO 7400.11G, dated August 19, 2022, and effective September 15, 2022, which is incorporated by reference in 14 CFR 71.1. The VOR Federal airways listed in this document will be subsequently published in, and removed from FAA Order JO 7400.11.

Difference From the NPRM

The NPRM stated that the amended starting point for VOR Federal airway V-379 would be defined by an intersection of the Westminster, MD 167°(T)/175°(M) and the Smyrna, DE 242°(T)/251°(M) radials (the BUKYY, MD intersection). This was an error. The correct starting point is the intersection of the Westminster, MD 153°(T)/161°(M) and the Smyrna, DE 242°(T)/251°(M) radials (the DEALE, MD intersection). The new starting point is located along the current V-379 centerline, so it does not affect the alignment of the airway.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11F lists Class A, B, C, D, and E airspace areas, air traffic service routes, and reporting points.

The Rule

This action amends 14 CFR part 71 by modifying VOR Federal airways V-67, V-159, V-185, V-209, and V-379; and removing airway V-541. The route changes are described below.

V-67: V-67 consists of two parts: From Choo Choo, TN, to Shelbyville, TN; and From the intersection of the Centralia, IL 010° and the Vandalia, IL 162° radials, to Rochester, MN. This rule removes the first part of the route. The second part of the route is unaffected.

V-159: V-159 consists of two parts: From Virginia Key, FL to Vulcan, AL; and From Holly Springs, MS to Omaha, IA. This change removes Tuskegee, AL from the first part of the route. In place of Tuskegee, the existing KENTT Intersection is added to the route description. The KENTT Intersection is defined by the intersection of the Eufaula, AL 320° and the Vulcan, AL 139° radials. This change does not affect the alignment of V-159. Existing United States Area Navigation (RNAV) route T-239 overlays V-159 from Vulcan, AL, to Pecan, GA. As amended, V-159 extends from Virginia Key, FL to Vulcan, AL; and From Holly Springs, MS to Omaha, IA.

V-185: V-185 extends from Savannah, GA, to Volunteer, TN. This action removes Greenwood, SC, and Sugarloaf Mountain, NC, from the route. As amended, V-185 consists of two parts: From Savannah, GA, to Colliers, SC; and From Snowbird, TN, to Volunteer, TN.

V-209: V-209 consists of two parts: From Semmes, AL, to the intersection of the of the Semmes 356° and the Eaton, MS 080° radials; and From the intersection of the Bigbee, MS 139° and the Brookwood, AL 230° radials, to Choo Choo, TN. This action terminates the second part of the route at Gadsden, AL, and removes the segment from Gadsden to Choo Choo, TN.

As amended, V-209 extends From Semmes, AL, to the intersection of the Semmes 356° and the Eaton, MS 080° radials; and From the intersection of the Bigbee, MS 139° and the Brookwood, AL 230° radials, to Gadsden, AL.

V-379: V-379 extends from Nottingham, MD, to Smyrna, DE. This action removes the Nottingham VHF Omnidirectional Range and Tactical Air Navigational System (VORTAC) from the route and sets the starting point of the route at an intersection defined by radials from the Westminster, MD (EMI), VORTAC, and the Smyrna, DE (ENO), VORTAC (the DEALE, MD intersection). As amended, V-379 extends from the intersection of the Westminster, MD 153°(T)/161°(M) and the Smyrna, DE 242°(T)/251°(M) radials; to Smyrna. This change does not affect the alignment of V-379.

V-541: V-541 extends from Gadsden, AL, to the intersection of the Gadsden 318° and the Vulcan, AL 029° radials. This route is only 28 nautical miles long and is not required by air traffic control. The FAA is removing the route in its entirety.

The full descriptions of the above routes are listed in the amendments to part 71 set forth below. FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending five, and removing one VOR Federal airways in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G Airspace Designations and Reporting Points, dated August 19, 2022, and effective September 15, 2022, is amended as follows:

Paragraph 6010(a) Domestic VOR Federal Airways.

* * * * *

V-67 [Amended]

From INT Centralia 010° and Vandalia, IL, 162° radials; Vandalia; Spinner, IL; Burlington, IA; Iowa City, IA; Cedar Rapids, IA; Waterloo, IA; to Rochester, MN.

* * * * *

V-159 [Amended]

From Virginia Key, FL: INT Virginia Key 344° and Treasure, FL, 178° radials; Treasure; INT Treasure 318° and Orlando, FL, 140° radials; Orlando; Ocala, FL; Cross City, FL; Greenville, FL; Pecan, GA; Eufaula, AL; INT Eufaula 320° and Vulcan, AL 139° radials to Vulcan. From Holly Springs, MS; Gilmore, AR; Walnut Ridge, AR; Dogwood, MO; Springfield, MO; Napoleon, MO; INT Napoleon 005° and St. Joseph, MO, 122° radials; St. Joseph; to Omaha, IA.

* * * * *

V-185 [Amended]

From Savannah, GA; INT Savannah 335° and Colliers, SC, 150° radials; to Colliers. From Snowbird, TN; INT Snowbird 301° and Volunteer, TN, 069° radials; to Volunteer.

* * * * *

V-209 [Amended]

From Semmes, AL, to INT Semmes 356° and Eaton, MS, 080° radials. From INT Bigbee, MS 139° and Brookwood, AL 230° radials; Brookwood; Vulcan, AL; INT Vulcan 097° and Gadsden, AL, 233° radials; to Gadsden.

* * * * *

V-379 [Amended]

From INT Westminster, MD 153° and Smyrna, DE 242° radials; to Smyrna.

* * * * *

V-541 [Removed]

* * * * *

Issued in Washington, DC, on December 8, 2022.
Scott M. Rosenbloom,
Manager, Airspace Rules and Regulations.

[FR Doc. 2022-27081 Filed 12-14-22; 8:45 am]

BILLING CODE 4910-13-P